DEPARTMENT OF JUSTICE

Notice of Lodging of Proposed Consent Decree Under the Clean Water Act

On March 31, 2017, the Department of Justice lodged a proposed Consent Decree with the United States District Court for the Northern District of Ohio in the lawsuit entitled United States v. Sunoco Pipeline L.P., Civil Action No. 1:17-cv-00689.

The proposed Consent Decree resolves claims by the United States in the associated complaint under the Clean Water Act against Sunoco Pipeline L.P. (“Sunoco”) for the illegal discharge of 1,950 barrels of gasoline into a water of the United States. Under the proposed Consent Decree, Sunoco agrees to pay civil penalties in the amount of $990,000 within 30 days of the effective date of the proposed Consent Decree.

The publication of this notice opens a period for public comment on the Consent Decree. Comments should be addressed to the Acting Assistant Attorney General, Environment and Natural Resources Division, and should refer to United States v. Sunoco Pipeline L.P., D.J. Ref. No. 90-5-1-1-11415. All comments must be submitted no later than thirty (30) days after the publication date of this notice. Comments may be submitted either by email or by mail:

To submit comments: | Send them to:
By email | pubcomment-ees.enrd@usdoj.gov
By mail | Acting Assistant Attorney General U.S. DOJ—ENRD P.O. Box 7611 Washington, DC 20044-7611

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $4.50 (25 cents per page reproduction cost) payable to the United States Treasury.

Randall M. Stone,
Acting Assistant Section Chief, Environmental Enforcement Section, Environment and Natural Resources Division.

[FR Doc. 2017-07642 Filed 4-14-17; 8:45 am]

BILLING CODE 4410-15-P